DEPARTMENT OF HOUSING AND URBAN DEVELOPMENT

[Docket No. FR-7001-N-20]

30-Day Notice of Proposed Information Collection: Self-Help Homeownership Opportunity Program (SHOP)

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: June 7, 2018.

ADDRESSES: Interested persons are invited to submit comments regarding this proposal. Comments should refer to the proposal by name and/or OMB Control Number and should be sent to: HUD Desk Officer, Office of Management and Budget, New Executive Office Building, Washington, DC 20503; fax: 202-395-5806, Email: OIRA Submission@omb.eop.gov.

FOR FURTHER INFORMATION CONTACT: Anna P. Guido, Reports Management Officer, QMAC, Department of Housing and Urban Development, 451 7th Street SW, Washington, DC 20410; email Anna P. Guido at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A. The Federal Register notice that solicited public comment on the information collection for a period of 60 days was corrected and re-published a on March 6, 2018 at 83 FR 9532.

A. Overview of Information Collection

Title of Information Collection: Self-Help Homeownership Opportunity Program (SHOP).

OMB Approval Number: 2506-0157.

Type of Request: Extension of currently approved collection.

Form Number: HUD-424CB, HUD-2880, HUD-2993, HUD-2995, HUD-96011.

Description of the need for the information and proposed use: This is a proposed information collection for submission requirements under the SHOP Notice of Funding Availability (NOFA). HUD requires information in order to ensure the eligibility of SHOP applicants and the compliance of SHOP proposals, to rate and rank SHOP applications, and to select applicants for grant awards. Information is collected on an annual basis from each applicant that responds to the SHOP NOFA. The SHOP NOFA requires applicants to submit specific forms and narrative responses.

Estimated Number of Respondents/Estimated Number of Responses:

Information collection | Number of respondents | Frequency of response | Responses per annual | Burden hour per response | Annual burden hours | Hourly cost per response | Annual cost
SF-424 | 10.00 | 0.00 | 0.00 | 0.00 | 00.00 | 0.00 | $0.00
HUD-424CB | 10.00 | 1.00 | 10.00 | 10.00 | 100.00 | 60.00 | 6,000.00
HUD-424CBW | 10.00 | 1.00 | 10.00 | 30.00 | 300.00 | 60.00 | 18,000.00
SF-LLL | 10.00 | 0.00 | 0.00 | 0.00 | 0.00 | 0.00 | 0.00
HUD-2880 | 10.00 | 1.00 | 10.00 | .50 | 5.00 | 60.00 | 300.00
HUD-2993 | 10.00 | 1.00 | 10.00 | .50 | 5.00 | 60.00 | 300.00
HUD-2995 | 10.00 | 1.00 | 10.00 | .50 | 5.00 | 60.00 | 300.00
HUD-96011 | 10.00 | 1.00 | 10.00 | .50 | 5.00 | 60.00 | 300.00
Applicant Eligibility | 10.00 | 1.00 | 10.00 | 10.00 | 100.00 | 60.00 | 6,000.00
SHOP Program Design and Scope of Work | 10.00 | 1.00 | 10.00 | 30.00 | 300.00 | 60.00 | 18,000.00
Rating Factor 1 | 10.00 | 1.00 | 10.00 | 25.00 | 250.00 | 60.00 | 15,000.00
Rating Factor 2 | 10.00 | 1.00 | 10.00 | 25.00 | 250.00 | 60.00 | 15,000.00
Rating Factor 3 | 10.00 | 1.00 | 10.00 | 55.00 | 550.00 | 60.00 | 33,000.00
Rating Factor 4 | 10.00 | 1.00 | 10.00 | 30.00 | 300.00 | 60.00 | 18,000.00
Rating Factor 5 | 10.00 | 1.00 | 10.00 | 25.00 | 250.00 | 60.00 | 15,000.00
Total Annual Hour Burden |  |  |  |  | 2,420.00 |  | 145,200.00

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: April 24, 2018.
Anna P. Guido,
Department Reports Management Officer, Office of the Chief Information Officer.

[FR Doc. 2018-09776 Filed 5-7-18; 8:45 am]

BILLING CODE 4210-67-P